ENVIRONMENTAL PROTECTION AGENCY

40 CFR Part 300

[FRL-7016-7]

National Oil and Hazardous Substance Pollution Contingency Plan; National Priorities List

AGENCY: Environmental Protection Agency.

ACTION: Direct final notice of deletion of the Sheller-Globe Corporation Disposal Superfund Site from the National Priorities List.

SUMMARY: The Environmental Protection Agency (EPA) Region 7 is publishing a direct final notice of deletion of the Sheller-Globe Corporation Disposal Superfund Site (Site), located near Keokuk, Iowa, from the National Priorities List (NPL). The NPL, promulgated pursuant to section 105 of the Comprehensive Environmental Response, Compensation, and Liability Act (CERCLA) of 1980, as amended, is appendix B of 40 CFR part 300, which is the National Oil and Hazardous Substances Pollution Contingency Plan (NCP). This direct final deletion is being published by EPA with the concurrence of the state of Iowa, through the Iowa Department of Natural Resources because EPA has determined that all appropriate response actions under CERCLA have been completed and, therefore, further remedial action pursuant to CERCLA is not appropriate.

DATES: This direct final deletion will be effective September 24, 2001 unless EPA receives adverse comments by August 24, 2001. If adverse comments are received, EPA will publish a timely withdrawal of the direct final deletion in the Federal Register informing the public that the deletion will not take effect.

ADDRESSES: Comments may be mailed to: James Colbert, Remedial Project Manager (RPM) at U.S. EPA Region 7, Superfund Division, 901 N. 5th St., Kansas City, Kansas, 66101.

Information Repositories: Comprehensive information about the Site is available for viewing and copying at the Site information repositories located at: U.S. EPA Region 7 Superfund Records Center, 901 N. 5th Street, Kansas City, Kansas 66101 and the Keokuk Public Library, 201 N. 5th Street, Keokuk, Iowa 52632.

FOR FURTHER INFORMATION CONTACT: If additional information is needed, please contact James Colbert at (913) 551-7489 or e-mail at Colbert.Jim@epa.gov. The EPA Region 7 toll-free phone number is 1-800-223-0425.

SUPPLEMENTARY INFORMATION:

Table of Contents

I. Introduction

II. NPL Deletion Criteria

III. Deletion Procedures

IV. Basis for Site Deletion

V. Deletion Action

I. Introduction

The EPA Region 7 is publishing this direct final notice of deletion of the Sheller-Globe Corporation Disposal Superfund Site from the NPL. The EPA identifies sites that appear to present a significant risk to public health or the environment and maintains the NPL as the list of those sites. As described in § 300.425(e)(3) of the NCP, sites deleted from the NPL remain eligible for remedial actions if conditions at a deleted site warrant such action. Because EPA considers this action to be noncontroversial and routine, EPA is taking it without prior publication of a notice of intent to delete. This action will be effective September 24, 2001 unless EPA receives adverse comments by August 24, 2001 on this document. If adverse comments are received within the 30-day public comment period on this document, EPA will publish a timely withdrawal of this direct final deletion before the effective date of the deletion and the deletion will not take effect. The EPA will, as appropriate, prepare a response to comments and continue with the deletion process on the basis of the notice of intent to delete and the comments already received. There will be no additional opportunity to comment.

II. NPL Deletion Criteria

Section 300.425(e) of the NCP provides that releases may be deleted from the NPL where no further response is appropriate. In making a determination to delete a release from the NPL, EPA shall consider, in consultation with the state, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of the Site.

(1) The EPA consulted with the state of Iowa on the deletion of the Site from the NPL prior to developing this direct final notice of deletion.

(2) The state of Iowa concurred with deletion of the Site from the NPL.

(3) Concurrently with the publication of this direct final notice of deletion, a notice of the availability of the parallel notice of intent to delete published today in the “Proposed Rules” section of the Federal Register is being published in a major local newspaper of general circulation at or near the Site and is being distributed to appropriate federal, state, and local government officials and other interested parties; the newspaper notice announces the 30-day public comment period concerning the notice of intent to delete the Site from the NPL.

(4) The EPA placed copies of documents supporting the deletion in the Site information repositories identified above.

(5) If adverse comments are received within the 30-day public comment period on this document, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Location

The Sheller-Globe Corporation Disposal Superfund Site is located approximately four miles north of Keokuk, Iowa, and consists of a primary disposal area and a much smaller secondary disposal area referred to as the North Hill disposal area that was identified during the Remedial Investigation (RI). The primary disposal area covers approximately 6.6 acres and is bordered by Airport Road, 260th Street, and two nameless intermittent streams. The North Hill disposal area is located on a hillside east of 260th Street approximately one-quarter of a mile north of the intersection with Airport Road.

Site History

From 1948 until 1972, waste materials were taken to the Sheller-Globe Corporation Disposal Site from the former Sheller-Globe plant in Keokuk. The plant manufactured rubber products and automobile parts. Some waste material taken to the Site for disposal consisted of solvents and paint sludges. These sludges, along with other nonhazardous wastes brought to the Site, were periodically burned and the ash spread over the hillsides. Disposal at the Site was discontinued in 1972 and the area was covered with soil. A private home was subsequently constructed within the boundaries of the primary disposal area and was used as a residence until 1991.The Site was proposed for inclusion on the EPA's National Priorities List (NPL) on May 5, 1989, and inclusion was finalized on August 30, 1990. The NPL identifies sites that warrant further evaluation to determine the type of response that may be required to protect human health and the environment.

Remedial Investigation (RI)

In October 1990, EPA and Sheller-Globe Corporation (Sheller-Globe) entered into an Administrative Order on Consent (AOC), Docket No. VII-91-F-0003. The AOC required Sheller-Globe to conduct a Remedial Investigation/Feasibility Study (RI/FS) to determine the nature and extent of contamination at the Site and evaluate alternatives to address contamination at the Site. The July 1994 RI Report provided a summary of all analytical results. The analytical results of the samples were used to characterize the risk that the Site posed to human health and the environment.

Characterization of Risk

The RI field activities included sampling of ash material, soil, surface water, sediment and groundwater. The July 1994 RI Report provided a summary of all analytical results. Using the data collected during the RI, the EPA prepared a Baseline Risk Assessment and an Ecological Assessment to characterize the risk that the Site posed to human health and the environment. Work conducted as part of the RI and the human health and ecological risk assessments indicated metals (barium, cadmium, lead, zinc, copper, chromium, and selenium) found in the ash material were at concentrations greater than the background soil concentrations. The metals in the ash material was considered to be the primary source of contamination at the Site.

Feasibility Study (FS)

The February 1995 FS Report evaluated the remedial alternatives and provided the basis for EPA's preferred alternative as presented in the July 1995 Proposed Plan. The RI Report, FS Report, and Proposed Plan were made available for public comment from August 1, 1995, to August 31, 1995.

Record of Decision Findings

The September 1995 Record of Decision (ROD) documents the remedial alternative selected by EPA to address the potential exposure to soils and ash material at the Site. The selected remedy addressed the threat posed by the contaminants within the primary disposal area of the Site and required the following actions:

• Record restrictive covenants/deed restrictions with the Lee County Recorder's office to prohibit the disturbance of the surface or subsurface of the property and limit land use to nonresidential. This also provides notice to potential future property owners of previous environmental response activities that have occurred at the Site;

• Demolish the house and shed located on site to prevent it from being used. Place the demolition debris in the basement of the house;

• Remove all drums exposed at the ground surface (the drums were determined to be empty or filled with nonhazardous material). Place the drums in the basement of the house;

• Construct a soil and vegetation cover over the exposed ash and over the basement of the house; and

• Inspect and maintain the soil covers.

Response Actions

A Consent Decree, Civil Action No. 8-98-CV-90150, was negotiated and executed by the United Technologies Automotive Systems, Inc. (UTAS), Miriam and David B. Grimes (the property owners), and the United States of America. The Consent Decree was lodged with the U.S. District Court for the Southern District of Iowa on September 25, 1998, and subsequently entered by the Court on March 3, 1999. The remedial action that was selected in the ROD was conducted by United Technologies Automotive Systems, Inc. (formerly Sheller-Globe Corporation) and their technical contractors (URS Greiner Woodward Clyde and WRS Infrastructure and Environment), in accordance with the April 1999 Remedial Design/Remedial Action (RD/RA) Work Plan and is documented in the May 2000 Remedial Action (RA) Report. The RA Report was approved by EPA on September 25, 2000.

Clean-Up Standards

The field work associated with the remedial action was conducted between November 1, 1999, and November 11, 1999. A backhoe was used to demolish the house and shed, the basement floor slab was broken up in place, and all the debris from the house and shed (as well as the empty drums and miscellaneous debris) was placed within the basement of the house. An initial layer of clay was placed over the debris prior to placement of a non-woven geotechnical filter fabric over the limits of the house. Three 8-inch thick lifts of clay were placed over the filter fabric and then a 12-inch layer of topsoil was spread over the clay. Each lift of clay and topsoil were compacted and sloped to specifications. The four areas of exposed ash that were identified during the RI/FS were also covered with at least one foot of topsoil. The house area, the four ash areas, the shed area, and drum divots were seeded and erosion control mats were spread and staked over the completed soil areas. The EPA conducted a pre-certification inspection on November 8, 1999. In an April 21, 2000, letter to UTAS, the EPA indicated that the RA Report adequately demonstrated completion of the outstanding items noted during the pre-certification inspection and that the remedial action had been performed in accordance with the Consent Decree and RA Report on May 22, 2000. The RA Report was approved by EPA on September 25, 2000. Land use restrictions are a component of the remedy described in the ROD. In accordance with the Consent Decree, the property shall not be used for residential purposes and there shall be no disturbance of the surface or subsurface of the land. The Environmental Protection Declaration of Restrictive Covenants describes the land-use restrictions associated with the property and sets forth the procedures to enforce said restrictions. On September 12, 2000, this document was recorded at the Recorder's Office of Lee County, state of Iowa.

In September 1989, the Sheller-Globe Corporation Disposal Site (referred to as the Grimes Property Site) was listed on the state of Iowa's Registry of Confirmed Hazardous Waste or Hazardous Substance Disposal Sites. Inclusion on this registry provides that written approval by the Director of the Iowa Department of Natural Resources is necessary prior to substantially changing the manner in which the Site is used or selling, conveying, or transferring title of the Site.

Inspection and Maintenance

Routine field inspections by representatives of UTAS are planned to assure the integrity of the soil and vegetative covers. Inspections are scheduled for two times a year (spring and fall) for the first three years (2000, 2001, and 2002) and annually (fall) thereafter for an additional two years (2003 and 2004). The need to continue the inspection/maintenance program will be reassessed following the 2004 inspection. On behalf of UTAS, URS Greiner Woodward Clyde has conducted two post-remedial action inspections, in April 2000 and September 2000. These inspections verified that the ground surface has not been disturbed and the property remains vacant. In April 2000, the recommended maintenance actions included additional seeding and placement of erosion control material in limited areas. In September 2000, the Site inspection indicated that the soil and vegetative cover were in satisfactory condition and, therefore, repair and maintenance activities were not necessary. Future inspection and maintenance activities will be conducted and the five-year review process is in place to assure that the remedial action remains protective of human health and the environment.

Five-Year Review

Section 121 (c) of CERCLA, as amended, and § 300.430(f)(4)(ii) of the National Oil and Hazardous Substances Pollution Contingency Plan require that periodic reviews (at least once every five years) be conducted for sites where hazardous substances, pollutants, or contaminants remain at the site above levels that allow for unlimited use or unrestricted exposure following the completion of all remedial actions for the site. This type of five-year review is referred to as a statutory review. The five year timetable typically begins with mobilization of contractors to start remedial action construction. For the Sheller-Globe Corporation Disposal Site, the first five-year review is scheduled for November 2004.

Community Involvement

Public participation activities have been satisfied as required in CERCLA section 113(k), 42 U.S.C. 9613(k), and CERCLA section 117, 42 U.S.C. 9617. A Community Relations Plan was prepared for the Site in 1989. An information repository was established for the Site at the Keokuk Public Library. The RI Report, FS Report, and Proposed Plan were made available for public comment from August 1, 1995, to August 31, 1995. Fact sheets providing site updates were distributed to individuals on the mailing list as established by the Community Relations Plan. Documents which EPA relied on for recommendation of the deletion from the NPL are available to the public in the information repositories.

V. Deletion Action

The EPA, with concurrence of the state of Iowa, has determined that all appropriate responses under CERCLA have been completed, and that no further response actions, under CERCLA, other than inspection and maintenance and five-year reviews, are necessary. Therefore, EPA is deleting the Site from the NPL. Because EPA considers this action to be noncontroversial and routine, EPA is taking it without prior publication. This action will be effective September 24, 2001 unless EPA receives adverse comments by August 24, 2001. If adverse comments are received within the 30-day public comment period, EPA will publish a timely withdrawal of this direct final notice of deletion before the effective date of the deletion and it will not take effect; and EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 12, 2001.
William W. Rice,
Acting Regional Administrator, Region 7.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of appendix B to part 300 is amended by removing the site for “Sheller-Globe Corp. Disposal, Keokuk, IA.”

[FR Doc. 01-18316 Filed 7-24-01; 8:45 am]

BILLING CODE 6560-50-P